DEPARTMENT OF TRANSPORTATION

National Highway Traffic Safety Administration

49 CFR Part 571

[Docket No. NHTSA-2005-21244]

RIN 2127-AJ59

Federal Motor Vehicle Safety Standards; Occupant Crash Protection

AGENCY: National Highway Traffic Safety Administration (NHTSA), Department of Transportation (DOT).

ACTION: Extension of comment period.

SUMMARY: NHTSA received a letter asking us to extend the comment period for the Notice of Proposed Rulemaking (NPRM) to amend the Federal motor vehicle safety standard (FMVSS) for occupant crash protection. The agency has proposed to amend FMVSS No. 208, Occupant crash protection, by establishing a test procedure applicable to vehicles equipped with a child restraint anchorage system, commonly referred to as a “LATCH” system, in a front passenger seating position and that comply with advanced air bag requirements through the use of a suppression system. The proposed procedures specify a repeatable, reproducible, and realistic method of attaching child restraints to the LATCH system for the suppression test.

To provide interested persons additional time to prepare comments, we are extending the end of the comment period from July 18, 2005, to August 17, 2005. This 30-day extension will allow vehicle manufacturers the appropriate opportunity to review a technical report cited in the NPRM in support of the agency's proposal, and provide more meaningful comments.

DATES: You should submit comments early enough to ensure that Docket Management receives them not later than August 17, 2005.

ADDRESSES: You may submit comments by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov, including any personal information provided. Please see discussion of the Privacy Act below.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: For non-legal issues, you may contact Lou Molino, Office of Crashworthiness Standards, Light Duty Vehicle Division by phone at (202) 366-1740, and by fax at (202) 493-2739.

For legal issues, you may contact Christopher Calamita of the NHTSA Office of Chief Counsel by phone at (202) 366-2992 and by fax at (202) 366-3820.

You may send mail to both of these officials at the National Highway Traffic Safety Administration, 400 Seventh St., SW., Washington, DC 20590.

SUPPLEMENTARY INFORMATION: On May 19, 2005, the agency published in the Federal Register a notice of proposed rulemaking (NPRM) to amend Federal Motor Vehicle Safety Standard (FMVSS) No. 208, Occupant crash protection (70 FR 28878). We proposed test procedures applicable to vehicles that have a child restraint anchorage system, commonly referred to as a “LATCH” system, in a front passenger seating position and that comply with advanced air bag requirements through the use of a suppression system. Beginning September 1, 2006, these vehicles must suppress the air bag in the presence of a child restraint system that is attached to the vehicle's LATCH system. The procedures proposed in the NPRM specify a repeatable, reproducible, and realistic method of attaching child restraints to the LATCH system for the suppression test.

The proposed procedure was developed by NHTSA to replicate real-world CRS installations in vehicles by experienced installers, particularly with respect to the appropriate load vector to be applied and the amount of load relief when LATCH belts are manually tightened. The procedure was developed using four installers working with three vehicles and four CRSs. The agency prepared a technical report detailing this development. The NPRM was published May 19, 2005, and open for a 60-day comment period. However, public availability of the technical report was delayed until after the comment period had started.

On June 20, 2005, we received a letter from the Alliance of Automobile Manufacturers (Alliance) ¹ requesting an extension of the comment period. The Alliance stated that because of the delay it is not able to adequately review the technical report and prepare comments by the close of comment period. Further, the Alliance stated that some of the illustrations in the technical report were not legible. The Alliance therefore requested a short extension of the comment period.

¹ The Alliance is a trade association of nine automobile manufacturers, including BMW Group, DaimlerChrysler, Ford Motor Company, General Motors, Mazda, Mitsubishi Motors, Porsche, Toyota, and Volkswagen.

As stated in the NPRM, the proposed procedure is for child restraint systems to which vehicles must certify under the suppression requirements, beginning September 1, 2006. Consequently, we believe the 30-day extension of the comment period will not adversely affect safety. Further, we believe that providing additional time for review of the technical report will result in more helpful comments. We note that the technical report has been resubmitted to the docket with legible illustrations.

Privacy Act: Anyone is able to search the electronic form of all submissions received into any of our dockets by the name of the individual submitting the comment or petition (or signing the comment or petition, if submitted on behalf of an association, business, labor union, etc.). You may review DOT's complete Privacy Act Statement in the Federal Register published on April 11, 2000 (volume 65, number 70; pages 19477-78), or you may visit http://dms.dot.gov.

Authority: 49 U.S.C. 322, 30111, 30115, 30117, and 30166; delegation of authority at 49 CFR 1.50.

Issued on July 8, 2005.
Stephen R. Kratzke,
Associate Administrator for Rulemaking.

[FR Doc. 05-13760 Filed 7-12-05; 8:45 am]

BILLING CODE 4910-59-P